DEPARTMENT OF LABOR

Employment and Training Administration

Notice of Determinations Regarding Eligibility To Apply for Worker Adjustment Assistance and Alternative Trade Adjustment Assistance

In accordance with Section 223 of the Trade Act of 1974, as amended (19 U.S.C. 2273) the Department of Labor herein presents summaries of determinations regarding eligibility to apply for trade adjustment assistance for workers (TA-W) number and alternative trade adjustment assistance (ATAA) by (TA-W) number issued during the period of October 11, 2011 through October 14, 2011.

In order for an affirmative determination to be made for workers of a primary firm and a certification issued regarding eligibility to apply for worker adjustment assistance, each of the group eligibility requirements of Section 222(a) of the Act must be met.

I. Section (a)(2)(A) all of the following must be satisfied:

A. A significant number or proportion of the workers in such workers' firm, or an appropriate subdivision of the firm, have become totally or partially separated, or are threatened to become totally or partially separated;

B. the sales or production, or both, of such firm or subdivision have decreased absolutely; and

C. increased imports of articles like or directly competitive with articles produced by such firm or subdivision have contributed importantly to such workers' separation or threat of separation and to the decline in sales or production of such firm or subdivision; or

II. Section (a)(2)(B) both of the following must be satisfied:

A. A significant number or proportion of the workers in such workers' firm, or an appropriate subdivision of the firm, have become totally or partially separated, or are threatened to become totally or partially separated;

B. there has been a shift in production by such workers' firm or subdivision to a foreign country of articles like or directly competitive with articles which are produced by such firm or subdivision; and

C. One of the following must be satisfied:

1. The country to which the workers' firm has shifted production of the articles is a party to a free trade agreement with the United States;

2. the country to which the workers' firm has shifted production of the articles to a beneficiary country under the Andean Trade Preference Act, African Growth and Opportunity Act, or the Caribbean Basin Economic Recovery Act; or

3. there has been or is likely to be an increase in imports of articles that are like or directly competitive with articles which are or were produced by such firm or subdivision.

Also, in order for an affirmative determination to be made for secondarily affected workers of a firm and a certification issued regarding eligibility to apply for worker adjustment assistance, each of the group eligibility requirements of Section 222(b) of the Act must be met.

(1) Significant number or proportion of the workers in the workers' firm or an appropriate subdivision of the firm have become totally or partially separated, or are threatened to become totally or partially separated;

(2) the workers' firm (or subdivision) is a supplier or downstream producer to a firm (or subdivision) that employed a group of workers who received a certification of eligibility to apply for trade adjustment assistance benefits and such supply or production is related to the article that was the basis for such certification; and

(3) either—

(A) The workers' firm is a supplier and the component parts it supplied for the firm (or subdivision) described in paragraph (2) accounted for at least 20 percent of the production or sales of the workers' firm; or

(B) a loss or business by the workers' firm with the firm (or subdivision) described in paragraph (2) contributed importantly to the workers' separation or threat of separation.

In order for the Division of Trade Adjustment Assistance to issue a certification of eligibility to apply for Alternative Trade Adjustment Assistance (ATAA) for older workers, the group eligibility requirements of Section 246(a)(3)(A)(ii) of the Trade Act must be met.

1. Whether a significant number of workers in the workers' firm are 50 years of age or older.

2. Whether the workers in the workers' firm possess skills that are not easily transferable.

3. The competitive conditions within the workers' industry (i.e., conditions within the industry are adverse).

Affirmative Determinations for Worker Adjustment Assistance and Alternative Trade Adjustment Assistance

The following certifications have been issued. The date following the company name and location of each determination references the impact date for all workers of such determination.

The following certifications have been issued. The requirements of Section 222(a)(2)(A) (increased imports) and Section 246(a)(3)(A)(ii) of the Trade Act have been met.

TA-W-80,142; Ditan Distribution, LLC, Forest Park, GA: April 27, 2010

TA-W-80,142A; Ditan Distribution, LLC, Plainfield, IN: April 27, 2010

TA-W-80,307; CommScope, Inc., Catawba, NC: July 20, 2010

TA-W-80,307A; CommScope, Inc., Conover, NC: July 20, 2010

TA-W-80,380; Pulse Electronics, San Diego, CA: August 18, 2010

TA-W-80,444; Spang and Company, East Butler, PA: August 13, 2011

TA-W-80,444A; Spang and Company, Pittsburgh, PA: August 13, 2011

TA-W-80,445; Masco, Waverly, OH: October 17, 2011

The following certifications have been issued. The requirements of Section 222(a)(2)(B) (shift in production) and Section 246(a)(3)(A)(ii) of the Trade Act have been met.

TA-W-80,331; Sloan Transportation Products, Holland, MI: July 22, 2010

TA-W-80,450; Cadent, Inc., Carlstadt, NJ: September 19, 2010

The following certifications have been issued. The requirements of Section 222(b) (supplier to a firm whose workers are certified eligible to apply for TAA) and Section 246(a)(3)(A)(ii) of the Trade Act have been met.

TA-W-80,388; Phoenix Trim Works, Inc., Williamsport, PA: August 20, 2011

TA-W-80,422; Coastal Lumber Company, Buckhannon, WV: September 7, 2010

TA-W-80,422A; Coastal Lumber Company, Elgon, WV: September 7, 2010

TA-W-80,422B; Coastal Lumber Company, Elkins, WV: September 7, 2010

TA-W-80,422C; Coastal Lumber Company, Smithburg, WV: September 7, 2010

TA-W-80,422D; Coastal Lumber Company, Frametown, WV: September 7, 2010

TA-W-80,422E; Coastal Lumber Company, Hacker Valley, WV: September 7, 2010

TA-W-80,422F; Coastal Lumber Company, Gassaway, WV: September 7, 2010

TA-W-80,422G; Coastal Lumber Company, Dailey, WV: September 7, 2010

TA-W-80,422H; Coastal Lumber Company, Dailey, WV: September 7, 2010

TA-W-80,422I; Coastal Lumber Company, Charlottesville, WV: September 7, 2010

TA-W-80,422J; Coastal Lumber Company, Hopwood, PA: September 7, 2010

Determinations Terminating Investigations of Petitions for Worker Adjustment Assistance

After notice of the petitions was published in the Federal Register and on the Department's Web site, as required by Section 221 of the Act (19 U.S.C. 2271), the Department initiated investigations of these petitions.

The following determinations terminating investigations were issued because the petitioning groups of workers are covered by active certifications. Consequently, further investigation in these cases would serve no purpose since the petitioning group of workers cannot be covered by more than one certification at a time.

TA-W-80,427; Coastal Lumber Company, Hopwood, PA

I hereby certify that the aforementioned determinations were issued during the period of October 11, 2011 through October 14, 2011. Copies of these determinations may be requested under the Freedom of Information Act. Requests may be submitted by fax, courier services, or mail to FOIA Disclosure Officer, Office of Trade Adjustment Assistance (ETA), U.S. Department of Labor, 200 Constitution Avenue, NW., Washington, DC 20210 or tofoiarequest@dol.gov. These determinations also are available on the Department's Web site at http://www.doleta.gov/tradeact under the searchable listing of determinations.

Dated: October 20, 2011.
Michael W. Jaffe,
Certifying Officer, Office of Trade Adjustment Assistance.

[FR Doc. 2011-27701 Filed 10-25-11; 8:45 am]

BILLING CODE 4510-FN-P